DEPARTMENT OF JUSTICE

Notice of Lodging of Consent Decree Under the Clean Air Act

Under 28 CFR 50.7, notice is hereby given that on March 13, 2002, a proposed Consent Decree in United States v. Boise Cascade Corporation, (Civil No. CV 02-311ST), was lodged with the United States District Court for the District of Oregon. The Consent Decree resolves claims on behalf of the United States Environmental Protection Agency (“EPA”) and the State of Louisiana against the Boise Cascade Corporation (“Boise Cascade”). The Complaint, which was filed simultaneously with the lodging of the Decree, alleged violations of the Prevention of Significant Deterioration (“PSD”) requirements of Part C of the Clean Air Act (the “CAA”), 42 U.S.C. 7470-7492, and the regulations promulgated thereunder at 40 CFR 52.21 (the “PSD Rules”) at eight plywood and particle board plants operated by Boise Cascade.

Under the Consent Decree, Boise Cascade is required to install state-of-the-art air pollution control equipment over the next three years at its Medford and Elgin, Oregon operations, and the Florien and Oakdale plants in Louisiana. In addition, the company must select one of three pollution control options to reduce volatile organic compound emissions (VOCs) from its particle board facility in Island City, Oregon. The company will spend an estimated $15 million to implement these compliance measures. The company will also pay $4.35 million in civil penalties and, under the settlement, Boise Cascade will be installing another $2.9 million in supplemental controls to reduce emissions at the Yakima and Kettle Falls, Washington plants, and to control certain units at the Medford, Oregon plywood facility. The state of Louisiana joined in the settlement and will receive a $250,000 share in the penalties.

The Department of Justice will receive for a period of thirty (30) days from the date of this publication comments relating to the Consent Decree. Comments should be addressed to the Assistant Attorney General, Environment and Natural Resources Division, P.O. Box 7611, U.S. Department of Justice, Washington, D.C. 20044-7611, and refer on its face to United States v. Boise Cascade Corporation, D.J. Ref. 90-5-2-1-06414.

The Consent Decree may be examined at the Office of the United States Attorney, District of Oregon, 1000 SW. Third Ave., Suite 600, Portland, OR 97204-2902, and at EPA Region 10, Office of Air Quality, 1200 Sixth Avenue OAQ-107, Seattle, Washington. A copy of the Consent Decree may also be obtained by mail from the Consent Decree Library, P.O. Box 7611, U.S. Department of Justice, Washington, D.C. 20044-7611 or by faxing a request to Tonia Fleetwood, fax no. (202) 514-0097, phone confirmation number (202) 514-1547. In requesting a copy, please enclose a check in the amount of $9.50 (25 cents per page reproduction cost) payable to the U.S. Treasury. The check should refer to United States and the State of Louisiana v. Boise Cascade Corporation, D.J. Ref. 90-5-2-1-06414.

Robert Maher,
Assistant Chief, Environmental Enforcement Section, Environment and Natural Resources Division.

[FR Doc. 02-6800 Filed 3-20-02; 8:45 am]

BILLING CODE 4410-15-M